DEPARTMENT OF THE TREASURY

Submission for OMB Review; Comment Request

December 16, 2011.

The Department of the Treasury will submit the following information collection request to the Office of Management and Budget (OMB) for review and clearance in accordance with the Paperwork Reduction Act of 1995, Public Law 104-13, on or after the date of publication of this notice.

DATES: Comments should be received on or before January 20, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave., NW., Suite 11020, Washington, DC 20220, or on-line at www.PRAComment.gov.

FOR FURTHER INFORMATION CONTACT: Copies of the submission(s) may be obtained by calling (202) 927-5331, email at PRA@treasury.gov, or the entire information collection request maybe found at www.reginfo.gov.

Internal Revenue Service (IRS)

OMB Number: 1545-XXXX.

Type of Review: New Collection.

Title: Form 1125-A, Cost of Goods Sold; Form 1125-E, Compensation of Officers.

Form: 1125-A, 1125-E.

Abstract: Form 1125-A: During a re-design of Form 1120, U.S. Corporation Income Tax Return, related to the inclusion of “Merchant Card Receipts”, it was deemed to be more efficient to present the data required to report “Cost of Goods Sold” on a new form. This new form, 1125-A, will be attached to form 1120, as well as to other forms that require this information.

Affected Public: Private Sector: Businesses or other for-profits.

Estimated Total Burden Hours: 44,085,600.

Robert Dahl,
Treasury PRA Clearance Officer.

[FR Doc. 2011-32598 Filed 12-20-11; 8:45 am]

BILLING CODE 4830-01-P